EQUAL EMPLOYMENT OPPORTUNITY COMMISSION

Agency Information Collection Activities: Proposed Collection; Comment Request

AGENCY: Equal Employment Opportunity Commission.

ACTION: Notice of information collection—new: EEOC National Contact Center Customer Service Survey.

SUMMARY: In accordance with the Paperwork Reduction Act of 1995 (Pub. L. 104-13, 44 U.S.C. chapter 35), the Commission announces its intent to submit to the Office of Management and Budget (OMB) a request to approve a new information collection as described below.

DATES: Written comments on this notice must be submitted on or before November 6, 2006.

ADDRESSES: Comments should be submitted to Stephen Llewellyn, Executive Officer, Executive Secretariat, Equal Employment Opportunity Commission, 10th Floor, 1801 L Street, NW., Washington, DC 20507. As a convenience to commentators, the Executive Secretariat will accept comments transmitted by facsimile (fax) machine. The telephone number of the fax receiver is (202) 663-4114. (This is not a toll-free number.) Only comments of six or fewer pages will be accepted via fax transmittal. This limitation is necessary to assure access to the equipment. Receipt of fax transmittals will not be acknowledged, except that the sender may request confirmation of receipt by calling the Executive Secretariat staff at (202) 663-4070 (voice) or (202) 663-4074 (TTY). (These are not toll-free telephone numbers.) Copies of comments submitted by the public will be available to review at the Commission's library, Room 6502, 1801 L Street, NW., Washington, DC 20507 between the hours of 9:30 a.m. and 5 p.m.

FOR FURTHER INFORMATION CONTACT: Cynthia Pierre, Director, Field Management Programs, Office of Field Programs, 1801 L Street, NW., Washington, DC 20507, (202) 663-7115 (voice). This notice is available in the following formats: large print, braille, audio tape and electronic file on computer disk. Requests for this notice in an alternative format should be made to the Publications Center at 1-800-699-3362.

SUPPLEMENTARY INFORMATION: The Equal Employment Opportunity Commission (EEOC) enforces Title VII of the Civil Rights Act of 1964, the Equal Pay Act, the Age Discrimination in Employment Act, the Rehabilitation Act, Title I of the Americans with Disabilities Act, and the Pregnancy Employment Discrimination Act. Pursuant to its authority under those statutes, EEOC created a National Contact Center to provide the public with 24-hour access to EEOC and information about equal employment rights and responsibilities. The EEOC National Contact Center provides the public with a centralized point of access for reaching the EEOC and offers several choices for communicating with the EEOC, such as phone, TTY, e-mail, facsimile, and standard mail. In an effort to ensure continued quality service, EEOC proposes this customer satisfaction survey in order to request each person who uses the National Contact Center to respond to three questions about the service they received. This constitutes a collection of information under the Paperwork Reduction Act.

Pursuant to the Paperwork Reduction Act of 1995, 44 U.S.C. Chapter 35, and OMB regulation 5 CFR 1320.8(d)(1), the Commission solicits public comment on its proposed survey to enable it to:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

The remainder of this SUPPLEMENTARY INFORMATION section provides the public with information it will need to comment on the EEOC proposal. It contains an overview of the information collection and the proposed survey.

Overview of This Information Collection

Collection Title: EEOC National Contact Center Customer Satisfaction Survey.

OMB-Number: None.

Description of Affected Public: Individuals or households; Businesses or other for profit, not-for-profit institutions; state or local governments.

Number of Responses: Unknown.

Estimated Reporting Time Per Respondent: 5 minutes.

Total Burden Hours: Unknown.

Federal Cost: None.

Form:

Customer Satisfaction Survey Questions

EEOC National Contact Center

(To be used with persons who call, e-mail, fax, or write the Contact Center)

Question 1: Overall, I was satisfied with the quality of service that I received.

A. Strongly Agree

B. Agree

C. Neutral

D. Disagree

E. Strongly Disagree

Question 2: The Customer Service Representative who assisted me was helpful.

A. Strongly Agree

B. Agree

C. Neutral

D. Disagree

E. Strongly Disagree

Question 3: I would use the EEOC National Contact Center again.

A. Strongly Agree

B. Agree

C. Neutral

D. Disagree

E. Strongly Disagree

Paperwork Reduction Act Notice (Public Law 104-13)

Persons are not required to respond to a collection of information unless it displays a currently valid Office of Management and Budget (OMB) control number. This collection of information is approved under OMB number __ (Expiration Date: __ ). The obligation to respond to this information collection is voluntary; The average time to respond to this information collection is estimated to be 5 minutes. Submit comments regarding this estimate; including suggestions for reducing response time to the U.S. Equal Employment Opportunity Commission, Office of the Chair, 1801 L Street, NW., Washington, DC 20507. Please reference to OMB Number __ . We are very interested in your thoughts and suggestions about your experience in responding to the Equal Employment Opportunity Commission's National Contact Center Customer Satisfaction Survey. Your comments will be very useful to the Commission in making improvements in our National Contact Center.

Dated: August 30, 2006.
For the Commission.
Cari M. Dominguez,
Chair.

[FR Doc. E6-14813 Filed 9-6-06; 8:45 am]

BILLING CODE 6570-01-P